DEPARTMENT OF TRANSPORTATION

Federal Motor Carrier Safety Administration

[Docket No. FMCSA-2015-0329]

Qualification of Drivers; Application for Exemptions; Hearing

AGENCY: Federal Motor Carrier Safety Administration (FMCSA), Department of Transportation.

ACTION: Notice of applications for exemptions; request for comments.

SUMMARY: FMCSA announces receipt of applications from 30 individuals for an exemption from the hearing requirement to operate commercial motor vehicles (CMVs) in interstate commerce. If granted, the exemptions would enable these individuals to operate CMVs in interstate commerce.

DATES: Comments must be received on or before June 8, 2016.

ADDRESSES: You may submit comments bearing the Federal Docket Management System (FDMS) Docket No. FMCSA-2015-0329 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The Federal Docket Management System (FDMS) is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Christine A. Hydock, Chief, Medical Programs Division, (202) 366-4001, fmcsamedical@dot.gov, FMCSA, Department of Transportation, 1200 New Jersey Avenue SE., Room W64-113, Washington, DC 20590-0001. Office hours are 8:30 a.m. to 5 p.m., e.t., Monday through Friday, except Federal holidays.

SUPPLEMENTARY INFORMATION:

I. Background

Under 49 U.S.C. 31136(e) and 31315, FMCSA may grant an exemption from the Federal Motor Carrier Safety Regulations (FMCSRs) for a 2-year period if it finds “such exemption would likely achieve a level of safety that is equivalent to or greater than the level that would be achieved absent such exemption.” The statute also allows the Agency to renew exemptions at the end of the 2-year period. The 30 individuals listed in this notice have recently requested such an exemption from the hearing requirement in 49 CFR 391.41(b)(11), which applies to drivers of CMVs in interstate commerce. Accordingly, the Agency will evaluate the qualifications of each applicant to determine whether granting the exemption will achieve the required level of safety mandated by statute.

The physical qualification standard for drivers regarding hearing found in 49 CFR 391.41(b)(11) states that a person is physically qualified to drive a CMV if that person

First perceives a forced whispered voice in the better ear at not less than 5 feet with or without the use of a hearing aid or, if tested by use of an audiometric device, does not have an average hearing loss in the better ear greater than 40 decibels at 500 Hz, 1,000 Hz, and 2,000 Hz with or without a hearing aid when the audiometric device is calibrated to American National Standard (formerly ASA Standard) Z24.5—1951.

This standard was adopted in 1970 and was revised in 1971 to allow drivers to be qualified under this standard while wearing a hearing aid, 35 FR 6458, 6463 (April 22, 1970) and 36 FR 12857 (July 3, 1971).

II. Qualifications of Applicants

James E. Adams

Mr. Adams, age 44, holds an operator's license in Georgia.

Ronald Bagby

Mr. Bagby, age 66, holds an operator's license in Missouri.

Robert Barnett

Mr. Barnett, age 66, holds an operator's license in Michigan.

Jason A. Beutal

Mr. Beutal, age 39, holds an operator's license in Wisconsin.

Benjamin Bottoms

Mr. Bottoms, age 37, holds an operator's license in Virginia.

Edward Broeker

Mr. Broeker, age 54, holds an operator's license in California.

John Brown

Mr. Brown, age 59, holds a class A CDL in Minnesota.

Chris C. Calogar

Mr. Calogar, age 46, holds an operator's license in Ohio.

Richard P. Carney

Mr. Carney, age 58, holds an operator's license in New York.

David Cochran

Mr. Cochran, age 32, holds an operator's license in Washington.

Mark Deaken

Mr. Deaken, age 27, holds a class A CDL in Montana.

Ronald Doiron

Mr. Doiron, age 49, holds an operator's license in Massachusetts.

Glenn Ferguson

Mr. Ferguson, age 52, holds an operator's license in Texas.

James Griffin

Mr. Griffin, age 59, holds an operator's license in Tennessee.

James Harris

Mr. Harris, age 55, holds an operator's license in Florida.

Kristina Hundorf

Ms. Hundorf, age 50, holds an operator's license in California.

Kenneth Jones

Mr. Jones, age 55, holds a class A CDL in New Jersey.

Paul Mansfield

Mr. Mansfield, age 39, holds an operator's license in Kansas.

Eric Muniz

Mr. Muniz, age 38, holds an operator's license in Oklahoma.

Anthony Panto

Mr. Panto, age 57, holds a class A CDL in New Jersey.

David Pogue

Mr. Pogue, age 31, holds a class B CDL in Missouri.

Jeffrey Prag

Mr. Prag, age 56, holds a class AM CDL in Georgia.

James Prine

Mr. Prine, age 67, holds an operator's license in Arkansas.

Steven Tipton

Mr. Tipton, age 50, holds an operator's license in Iowa.

Eric Trevino

Mr. Trevino, age 30, holds an operator's license in Texas.

Wayne Turner

Mr. Turner, age 26, holds an operator's license in Illinois.

Paul Wentworth

Mr. Wentworth, age 48, holds an operator's license in Texas.

Kevin L.Wickman

Mr. Wickman, age 51, holds an operator's license in Iowa.

Robert G. Wilson

Mr. Wilson, age 64, holds an operator's license in Tennessee.

III. Request for Comments

In accordance with 49 U.S.C. 31136(e) and 31315, FMCSA requests public comment from all interested persons on the exemption petitions described in this notice. We will consider all comments received before the close of business on the closing date indicated in the date section of the notice.

IV. Submitting Comments

You may submit your comments and material online or by fax, mail, or hand delivery, but please use only one of these means. FMCSA recommends that you include your name and a mailing address, an email address, or a phone number in the body of your document so that FMCSA can contact you if there are questions regarding your submission.

To submit your comment online, go to http://www.regulations.gov and in the search box insert the docket number FMCSA-2015-0329 and click the search button. When the new screen appears, click on the blue “Comment Now!” button on the right hand side of the page. On the new page, enter information required including the specific section of this document to which each comment applies, and provide a reason for each suggestion or recommendation. If you submit your comments by mail or hand delivery, submit them in an unbound format, no larger than 8½ by 11 inches, suitable for copying and electronic filing. If you submit comments by mail and would like to know that they reached the facility, please enclose a stamped, self-addressed postcard or envelope.

We will consider all comments and material received during the comment period. FMCSA may issue a final determination any time after the close of the comment period.

V. Viewing Comments and Documents

To view comments, as well as any documents mentioned in this preamble, go to http://www.regulations.gov and in the search box insert the docket number FMCSA-2015-0329 and click “Search.” Next, click “Open Docket Folder” and you will find all documents and comments related to this notice.

Issued on: April 29, 2016.
Larry W. Minor,
Associate Administrator for Policy.

[FR Doc. 2016-10789 Filed 5-6-16; 8:45 am]

BILLING CODE 4910-EX-P